DEPARTMENT OF HEALTH AND HUMAN SERVICES

National Institutes of Health

Center for Scientific Review; Cancellation of Meeting

Notice is hereby given of the cancellation of the Center for Scientific Review Special Emphasis Panel, October 23, 2009, 8 a.m. to October 23, 2009, 12 p.m., InterContinental Mark Hopkins San Francisco, One Nob Hill, 999 California Street, San Francisco, CA, 94108 which was published in the Federal Register on September 25, 2009, 74 FR 48979.

The meeting was cancelled due to administration problems.

Dated: October 1, 2009.
Jennifer Spaeth,
Director, Office of Federal Advisory Committee Policy.

[FR Doc. E9-24278 Filed 10-7-09; 8:45 am]

BILLING CODE 4140-01-M